DEPARTMENT OF ENERGY

Federal Energy Regulatory Commission

Notice of Application for Partial Transfer of License and Amendment of License and Soliciting Comments, Motions To Intervene, and Protests

| Project No.
Pacific Gas & Electric Company | 2310-227 2784-006
Nevada Irrigation District | 14530-001

Take notice that the following hydroelectric application has been filed with the Commission and is available for public inspection.

a. Type of Application: Partial Transfer of License and Amendment.

b. Project Nos.: 2310-227, 2784-006, and 14530-001.

c. Date filed: January 22, 2019.

d. Applicants: Pacific Gas & Electric Company (transferor), Nevada Irrigation District (transferee).

e. Name of Projects: Drum Spaulding Hydroelectric Project (P-2310), Rollins Transmission Line Project (P-2784), proposed Deer Creek Hydroelectric Project (P-14530).

f. Location: Deer Creek development of the Drum Spaulding Project—located on Deer Creek in Nevada County, California. Rollins Transmission Line Project—located in the Bear River basin in Placer and Nevada counties, California.

g. Filed Pursuant to: Federal Power Act, 16 U.S.C. 791a—825r.

h. Applicants Contacts: For Transferor: Ms. Annette Faraglia, Chief Counsel Hydro Generation, Pacific Gas and Electric Company, 77 Beale Street, B30A-3005, San Francisco, CA 94105, (415) 973-7145, Email: annette.faraglia@pge.com and Ms. Stephanie Maggard, Director, Power Generation, Pacific Gas and Electric Company, 245 Market Street, N11E-1136, San Francisco, CA 94105, (415) 973-2812, Email: Stephanie.maggard@pge.com.

For Transferee: Mr. Remleh Scherzinger, General Manager, Nevada Irrigation District, 1036 West Main St., Grass Valley, CA 95945-5424, (530) 273-6185, email: Scherzinger@nidwater.com and Minasian Law Firm, ATTN: Andrew McClure, District Counsel, 1681 Bird Street, Oroville, CA 95965, (530) 533-2885, email: amcclure@minasianlaw.com.

i. FERC Contacts: Steven Sachs, (202) 502-8666 or steven.sachs@ferc.gov.

j. Deadline for filing comments, motions to intervene, and protests: 30 days from the date the Commission issues this notice.

The Commission strongly encourages electronic filing. Please file comments, motions to intervene, or protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket numbers P-2310-227, P-2784-006, and P-14530-001.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. Description of Transfer and Amendment Requests: The applicants request a partial transfer of the Deer Creek Development, which is part of Pacific Gas & Electric Company's Drum-Spaulding Project No. 2310, to the Nevada Irrigation District and to establish it as a separate project, Deer Creek Project No. 14530. The applicants also request that the Commission remove the transmission line for the Deer Creek Development from the Drum-Spaulding Project and incorporate it into Pacific Gas & Electric Company's license for the Rollins Transmission Line Project No. 2784.

l. Location of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676, email FERCOnlineSupport@ferc.gov, or for TTY, call (202) 502-8659.

m. Individuals desiring to be included on the Commission's mailing list should so indicate by writing to the Secretary of the Commission.

n. Comments, Protests, or Motions to Intervene: Anyone may submit comments, a protest, or a motion to intervene in accordance with the requirements of the Commission's Rules of Practice and Procedure, 18 CFR 385.210, .211, and .214. In determining the appropriate action to take, the Commission will consider all protests and other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. A copy of all other filings in reference to this application must be accompanied by proof of service on all persons listed in the service list prepared by the Commission in this proceeding, in accordance with 18 CFR 4.34(b) and 385.2010.

Dated: June 27, 2019.
Kimberly D. Bose,
Secretary.

[FR Doc. 2019-14447 Filed 7-5-19; 8:45 am]

BILLING CODE 6717-01-P